DEPARTMENT OF DEFENSE

Department of the Navy

Public Hearings for the Atlantic Fleet Active Sonar Training Draft Environmental Impact Statement/Overseas Environmental Impact Statement

AGENCY: Department of the Navy, DoD.

ACTION: Notice.

SUMMARY: Pursuant to section 102(2)(c) of the National Environmental Policy Act (NEPA) of 1969 and regulations implemented by the Council on Environmental Quality (40 CFR parts 1500 to 1508), and Presidential Executive Order 12114, the Department of the Navy (Navy) has prepared and filed with the U.S. Environmental Protection Agency a Draft Environmental Impact Statement/Overseas Environmental Impact Statement (EIS/OEIS) on February 8, 2008, which evaluates the potential environmental effects associated with the use of mid- and high-frequency active sonar technology and the improved extended echo ranging (IEER) system during Atlantic Fleet Active Sonar Training (AFAST) activities within and adjacent to existing Navy Operating Areas (OPAREAs) located along the East Coast of the United States and in the Gulf of Mexico. Navy OPAREAs include designated ocean areas near fleet concentration areas (i.e., homeports). OPAREAs are where the majority of routine Navy training and research, development, test, and evaluation (RDT&E) activities occur. However, Navy training exercises are not confined to the OPAREAs. Some training exercises or portions of exercises are conducted seaward of the OPAREAs and a limited amount of active sonar use is conducted in water areas shoreward of the OPAREAs. A Notice of Intent for this Draft EIS/OEIS was published in the Federal Register on 29 September 2006 (71 FR 57489).

The Navy will conduct six public hearings to receive oral and written comments on the Draft EIS/OEIS. Federal agencies, state agencies, and local agencies and interested individuals are invited to be present or represented at the public hearings. This notice announces the dates and locations of the public hearings for this Draft EIS/OEIS.

DATES AND ADDRESSES: An open house session will precede the scheduled public hearing at each of the locations listed below and will allow individuals to review the information presented in the AFAST Draft EIS/OEIS. Navy representatives will be available during the open house sessions to clarify information related to the AFAST Draft EIS/OEIS. All meetings will start with an open house session from 5 p.m. to 7 p.m. A formal presentation and public comment period will be held from 7 p.m. to 9 p.m. Public hearings will be held on the following dates and at the following locations: March 4, 2008 at the Tidewater Community College, Advanced Technology Center, Technology Theater, Faculty Drive, Virginia Beach, Virginia; March 6, 2008 at Boston University, Kenmore Classroom Building, Room 101, 565 Commonwealth Avenue, Boston, Massachusetts; March 11, 2008 at the Crystal Coast Civic Center, 1st Floor, Quads 1 and 2, 3505 Arendell Street, Morehead City, North Carolina; March 13, 2008 at the Charleston Harbor Resort and Marina, Atlantic Ballroom, 20 Patriots Point Road, Mount Pleasant, South Carolina; March 18, 2008 at the Florida Community College at Jacksonville, Nathan H. Wilson Center for the Arts, Lakeside Conference Room, 11901 Beach Boulevard, Jacksonville, Florida; and March 19, 2008 at the Florida State University, Panama City Campus, Auditorium, 4750 Collegiate Drive, Panama City, Florida.

FOR FURTHER INFORMATION CONTACT: Naval Facilities Engineering Command, Atlantic, Attention, Code EV22 (Atlantic Fleet Sonar Project Manager), 6506 Hampton Boulevard, Norfolk, Virginia 23508-1278; phone 757-322-4767 for a recorded message; or http://afasteis.gcsaic.com.

SUPPLEMENTARY INFORMATION: The Proposed Action is to designate areas where mid- and high-frequency active sonar and the IEER system training, maintenance, and RDT&E activities will occur, and to conduct these activities. AFAST training and RDT&E activities involving active sonar and the IEER system are collectively described as active sonar activities in the AFAST Draft EIS/OEIS. These active sonar activities are not new and do not involve significant changes in systems, tempo, or intensity from past activities. The purpose of the Proposed Action is to provide active sonar training for U.S. Navy Atlantic Fleet ship, submarine, and aircraft crews, and to conduct RDT&E activities to support the requirements of the Fleet Readiness Training Plan (FRTP) and stay proficient in Anti-Submarine Warfare (ASW) and Mine Warfare (MIW) skills. The FRTP is the Navy's training cycle that requires naval forces to build up in preparation for operational deployment and to maintain a high level of proficiency and readiness while deployed.

The FRTP requires Basic Unit Level Training (ULT), Intermediate ULT, and Sustainment Training. The Navy meets these requirements during Independent ULT, Coordinated ULT, and Strike Group Training. At the beginning of the cycle, basic combat skills are learned and practiced during basic Independent ULT activities. Basic skills are then refined during Coordinated ULT. Strike Group Training is integrated training using progressively more difficult, complex, and large-scale exercises conducted at an increasing tempo. This training provides the warfighter with the skills necessary to function as part of a coordinated fighting force in a hostile environment with the capacity to accomplish multiple missions.

Surface ships and submarines participating in the training also must conduct active sonar maintenance pier side and during transit to the training exercise location. The active sonar maintenance is required to ensure that the sonar system is operating properly before engaging in the training exercise or when the sonar systems are suspected of operating at levels below optimal performance.

Additionally, RDT&E provides the Navy the capability of developing new active sonar systems and ensuring their safe and effective implementation for the Atlantic Fleet. The RDT&E activities analyzed in the AFAST Draft EIS/OEIS are similar to, and coincident with, Atlantic Fleet training events and have not been previously evaluated in other environmental planning documents.

The Navy's need for training and RDT&E is found in Title 10 of the USC, Section 5062 (10 U.S.C. 5062). Title 10 U.S.C. 5062 requires the Navy to be “organized, trained, and equipped primarily for prompt and sustained combat incident to operations at sea.” The current and emerging training and RDT&E activities addressed in this Draft EIS/OEIS are conducted in fulfillment of this legal requirement.

The Draft EIS/OEIS evaluates the potential environmental impacts of four alternatives. Under Alternative 1, Designate Fixed Active Sonar Areas, fixed active sonar areas would be designated using an environmental analysis to determine locations that would minimize environmental effects to biological resources while still meeting operational requirements. These areas would be available for use year-round. Under Alternative 2, Designate Seasonal Active Sonar Areas, active sonar training areas would be designated using the same environmental analysis conducted under Alternative 1. The areas would be adjusted seasonally to minimize effects to marine resources while still meeting minimum operational requirements. Under Alternative 3, Designate Areas of Increased Awareness, the results of the environmental analysis conducted for Alternative 1 and 2 were used in conjunction with a qualitative environmental analysis of sensitive habitats to identify areas of increased awareness. Active sonar would not be conducted within these areas of increased awareness. The No Action Alternative can be regarded as continuing with the present course of action. Under the No Action Alternative, the Navy would continue conducting active sonar activities within and adjacent to existing OPAREAs rather than designate active sonar areas or areas of increased awareness. The No Action Alternative is the Navy's Operationally Preferred Alternative.

The Navy analyzed potential impacts on multiple resources including, but not limited to, the marine environment, marine life, and socioeconomic resources. No significant adverse impacts are identified for any resource area in any geographic location within the AFAST Study Area that cannot be mitigated, with the exception of exposure of marine mammals and sea turtles to underwater sound. NMFS has received a request for Letter of Authorization (LOA) in accordance with the Marine Mammal Protection Act to authorize the incidental take of marine mammals that may result from the implementation of the activities analyzed in the AFAST Draft EIS/OEIS. In addition, the AFAST Draft EIS/OEIS will serve as the Biological Evaluation (BE) to enter into consultation with NMFS in accordance with Section 7 of the Endangered Species Act (ESA) to authorize the incidental take of endangered or threatened marine mammals and sea turtles that may result from the implementation of the activities analyzed in the AFAST Draft EIS/OEIS. ESA consultation is complete once NMFS prepares a final Biological Opinion and issues an incidental take statement.

The AFAST Draft EIS/OEIS was distributed to Federal, State, and local agencies, elected officials, and other interested individuals and organizations on February 8, 2007. The public comment period will end on March 31, 2008. Copies of the AFAST Draft EIS/OEIS are available for public review at the following libraries: Portland Public Library, 5 Monument Square, Portland, Maine; New London Public Library, 63 Huntington Street, New London, Connecticut; Kirn Memorial Library, 301 East City Hall Avenue, Norfolk, Virginia; Carteret County Public Library, 210 Turner Street, Morehead City, North Carolina; Charleston County Public Library, 68 Calhoun Street, Charleston, South Carolina; Jacksonville Public Library, 303 North Laura Street, Jacksonville, Florida; Bay County Public Library, 25 West Government Street, Panama City, Florida; Corpus Christi Public Library—Central Library, 805 Comanche, Corpus Christi, Texas; Boston Public Library—Central Library, 700 Boylston Street, Boston, Massachusetts; Ann Arundel County Public Library, 1410 West Street, Annapolis, Maryland; and Camden County Public Library, 1410 Highway 40 East, Kingsland, Georgia.

The AFAST Draft EIS/OEIS is also available for electronic public viewing at http://afasteis.gcsaic.com. A paper copy of the Executive Summary or a single CD with the AFAST Draft EIS/OEIS will be made available upon written request by contacting Naval Facilities Engineering Command, Atlantic, Attention: Code EV22 (Atlantic Fleet Sonar Project Manager), 6506 Hampton Boulevard, Norfolk, Virginia 23508-1278, Fax: 888-875-6781.

Federal, State, and local agencies and interested parties are invited to be present or represented at the public hearing. Written comments can also be submitted during the open house sessions preceding the public hearings. Oral statements will be heard and transcribed by a stenographer; however, to ensure the accuracy of the record, all statements should be submitted in writing. All statements, both oral and written, will become part of the public record on the Draft EIS/OEIS and will be responded to in the Final EIS/OEIS. Equal weight will be given to both oral and written statements.

In the interest of available time, and to ensure all who wish to give an oral statement have the opportunity to do so, each speaker's comments will be limited to three (3) minutes. If a long statement is to be presented, it should be summarized at the public hearing with the full text submitted either in writing at the hearing, or mailed or faxed to Naval Facilities Engineering Command, Atlantic, Attention: Code EV22 (Atlantic Fleet Sonar Project Manager), 6506 Hampton Boulevard, Norfolk, Virginia 23508-1278, Fax: 888-875-6781. In addition, comments may be submitted on-line at http://afasteis.gcsaic.com during the comment period. All written comments must be postmarked by March 31, 2008 to ensure they become part of the official record. All comments will be addressed in the Final EIS/OEIS.

Dated: February 8, 2008.
T.M. Cruz,
Lieutenant, Judge Advocate General's Corps, U.S. Navy, Federal Register Liaison Officer.

[FR Doc. E8-2810 Filed 2-14-08; 8:45 am]

BILLING CODE 3810-FF-P